FEDERAL MARITIME COMMISSION

[Petition No. P1-03]

Petition of China Shipping Container Lines Co., Ltd., for a Limited Exemption From Section 9(C) of the Shipping Act of 1984; Notice of Filing

Notice is hereby given that China Shipping Container Lines Co., Ltd. (“Petitioner”) has petitioned, pursuant to section 16 of the Shipping Act of 1984, 46 U.S.C. App. 1715, for a limited exemption from the tariff publishing requirements of section 9 of the Shipping Act, 46 U.S.C. App. 1708(c). Petitioner seeks an exemption so that it can lawfully reduce rates to meet or exceed the published rates of competing ocean common carriers on one day's notice.

In order for the Commission to make a thorough evaluation of the Petition, interested persons are requested to submit views or arguments in reply to the Petition no later than May 27, 2003. Replies shall consist of an original and 15 copies, be directed to the Secretary, Federal Maritime Commission, 800 North Capitol Street, NW., Washington, DC 20573-0001, and be served on Petitioner's counsel: Brett M. Esber, Esquire, Thomas Z. Cheplo, Esquire, Blank Rome LLP, Watergate, Eleventh Floor, 600 New Hampshire Avenue, NW., Washington, DC 20037. It is also requested that a copy of the reply be submitted in electronic form (WordPerfect, Word or ASCII) on diskette or e-mailed to secretary@fmc.gov.

Copies of the Petition are available at the Office of the Secretary, Federal Maritime Commission, 800 North Capitol Street, NW., Room 1046. A copy may also be obtained by sending a request to secetary@fmc.gov or by calling 202-523-5725. Parties participating in this proceeding may elect to receive service of the Commission's issuances in this proceeding through e-mail in lieu of service by U.S. mail. A party opting for electronic service shall advise the Office of the Secretary in writing and provide an e-mail address where service can be made.

By the Commission.
Bryant L. VanBrakle,
Secretary.

[FR Doc. 03-11764 Filed 5-9-03; 8:45 am]

BILLING CODE 6730-01-P